DEPARTMENT OF AGRICULTURE

Forest Service

Proposed New Fee Sites: The Lolo National Forest

AGENCY: Forest Service, USDA.

ACTION: Notice of proposed new fee sites; comment request.

SUMMARY: The Lolo National Forest is proposing to charge new fees at four day-use sites, three recreation rental facilities and seven campgrounds across the Forest as described in the supplementary section of this notice.

All sites have had recent upgrades and new or improved amenities added to improve the services and recreation experiences. The Driveway Peak lookout is being moved from its current location on Priscilla Peak to a more accessible location on Driveway Peak. Fees are assessed based on the level of amenities and services provided, cost of operation and maintenance, market assessment, and public comment. Funds from these fees will be used for continued operation, maintenance and capital improvements to these recreation sites. These new fees would align the sites with other sites offering similar amenities and services. These fees are only proposed and will be determined upon further analysis and public comment.

DATES: Send any comments about these fee proposals by October 16, 2019, comments will be compiled, analyzed, and shared with the Recreation Resource Advisory Council(s). The proposed fees will become available pending a recommendation from the Resource Advisory Committee. If approved by the Regional Forester, the Forest Service will implement the new fee changes in 2020.

ADDRESSES: Written comments concerning this notice should be addressed to the Supervisor's Office: Lolo National Forest, Attn: Recreation Fee Proposals, 24 Fort Missoula Road, Missoula, MT 59804.

FOR FURTHER INFORMATION CONTACT: Kate Jerman, Public Affairs Officer, 406-329-1024 or by email at r1recfee@fs.fed.us. Information about proposed fee changes can also be found on the Lolo National Forest Fee proposal website at www.fs.usda.gov/goto/r1recfee.

SUPPLEMENTARY INFORMATION: The Federal Recreation Lands Enhancement Act (Title VII, Pub. L. 108-447) directed the Secretary of Agriculture to publish a six month advance notice in the Federal Register whenever new recreation fee areas are established.

Once public involvement is complete, these new fees will be reviewed by the Resource Advisory Council(s) prior to a final decision and implementation.

Specifically, the Lolo National Forest is proposing the following new fees:

• Big Hole Lookout; proposed fee of $45 per night;

• Driveway Peak Lookout; proposed fee of $55 per night;

• Savenac East Cottage; proposed fee of $80 per night;

• Seeley Lake and Big Larch Day Use Areas/Boat Launches; proposed fee of $5 per vehicle, per day; or a $35 annual pass;

• Pattee Canyon and Seeley Creek Winter trail complexes; proposed fee of $5 per vehicle, per day; or a $35 annual pass;

• Big Horn, Big Nelson, Fishtrap Lake, Kreis Pond, Lake Inez, Little Joe and Siria campgrounds; proposed fee of $10 per night, with an additional $5 extra vehicle fee per night for more than two vehicles.

• Big Horn, Big Nelson, Fishtrap Lake, Kreis Pond, Lake Inez, Little Joe and Siria campgrounds; proposed fee of $10 per night, with an additional $5 extra vehicle fee per night for more than two vehicles.

Fees, paid by users of these sites and services, will help ensure that the Forest can continue maintaining and improving the sites for future generations. A market analysis of surrounding recreation sites with similar amenities indicates that the proposed fees are comparable and reasonable.

Advance reservations for the Big Hole and Driveway Peak Lookouts, and Savenac East Cottage will be available through www.recreation.gov or by calling 1-877-444-6777. The reservation service charges $8.00 for fee reservations.

Dated: August 14, 2019.
Richard A. Cooksey,
Acting Associate Deputy Chief, National Forest System.

[FR Doc. 2019-19991 Filed 9-13-19; 8:45 am]

BILLING CODE 3411-15-P